ENVIRONMENTAL PROTECTION AGENCY

[FRL-12548-01-R8]

Clean Air Act Operating Permit Program; Order on Petition for Objection to State Operating Permit for Suncor Energy (U.S.A.), Inc., Commerce City Refinery Plant 1 (West) & Plant 3 (Asphalt Unit)

AGENCY: Environmental Protection Agency (EPA).

ACTION: Notice of final order on petition.

SUMMARY: The Environmental Protection Agency (EPA) Administrator signed an order dated December 30, 2024, granting in part and denying in part a petition dated September 6, 2024, from the Center for Biological Diversity and Sierra Club. The petition requested that the EPA object to the renewal of a Clean Air Act (CAA) operating permit issued by the Colorado Department of Public Health and Environment (CDPHE) to Suncor Energy (U.S.A.), Inc. for its Commerce City Refinery, Plant 1 (West) & Plant 3 (Asphalt Unit) located in Adams County, Colorado.

FOR FURTHER INFORMATION CONTACT: Julie Merkel, Environmental Protection Agency, EPA Region 8, telephone number: (406) 457-5042, email address: merkel.julie@epa.gov; or Donald Law, EPA Region 8, telephone number: (303) 312-7015, email address: law.donald@epa.gov. The final order and petition are available electronically at: https://www.epa.gov/title-v-operating-permits/title-v-petition-database.

SUPPLEMENTARY INFORMATION: The EPA received a petition from the Center for Biological Diversity and Sierra Club dated September 6, 2024, requesting that the EPA object to the issuance of operating permit no. 96OPAD120, issued by CDPHE to Suncor Energy (U.S.A.), Inc., Commerce City Refinery, Plant 1 (West) & Plant 3 (Asphalt Unit) in Adams County, Colorado. On December 30, 2024, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than March 18, 2025.

KC Becker,
Regional Administrator, Region 8.

[FR Doc. 2025-01235 Filed 1-16-25; 8:45 am]

BILLING CODE 6560-50-P